DEPARTMENT OF HOMELAND SECURITY

Coast Guard

33 CFR Part 117

[CGD01-07-015]

Drawbridge Operation Regulations; Reynolds Channel, New York, NY

AGENCY: Coast Guard, DHS.

ACTION: Notice of temporary deviation from regulations.

SUMMARY: The Commander, First Coast Guard District, has issued a temporary deviation from the regulation governing the operation of the Long Island Railroad Bridge, across Reynolds Channel, mile 4.4, at New York City, New York. Under this temporary deviation the draw may remain in the closed position for 24-hours on both March 3, 2007 and March 10, 2007. This deviation is necessary to facilitate scheduled bridge maintenance.

DATES: This deviation is effective on March 3, 2007, and March 10, 2007.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Long Island Railroad Bridge across Reynolds Channel, mile 4.4, at New York City, New York, has a vertical clearance in the closed position of 3 feet at mean high water and 7 feet at mean low water. The existing operating regulations are listed at 33 CFR 117.5.

The bridge owner, Long Island Railroad, requested a temporary deviation to allow the bridge to remain in the closed position to facilitate scheduled bridge maintenance. Under this temporary deviation the bridge may remain in the closed position for 24-hours on both March 3, 2007, and March 10, 2007.

In accordance with 33 CFR 117.35(c), this work will be performed with all due speed in order to return the bridge to normal operation as soon as possible.

This deviation from the operating regulations is authorized under 33 CFR 117.35.

Dated: February 15, 2007.
Gary Kassof,
Bridge Program Manager, First Coast Guard District.

[FR Doc. E7-3202 Filed 2-23-07; 8:45 am]

BILLING CODE 4910-15-P